DEPARTMENT OF AGRICULTURE

Office of the Secretary

Fiscal Year 2022 Raw Cane Sugar Tariff-Rate Quota Extension of the Entry Period

AGENCY: Office of the Secretary, USDA.

ACTION: Notice.

SUMMARY: The Office of the Secretary is providing notice of an extension of the fiscal year (FY) 2022 raw cane sugar tariff-rate quota (TRQ) entry period.

DATES: This notice is applicable on September 9, 2022.

FOR FURTHER INFORMATION CONTACT: Souleymane Diaby, Multilateral Affairs Division, Trade Policy and Geographic Affairs, Foreign Agricultural Service, U.S. Department of Agriculture, Stop 1070, 1400 Independence Avenue SW, Washington, DC 20250-1070; by telephone (202) 720-2916; or by email Souleymane.Diaby@usda.gov.

SUPPLEMENTARY INFORMATION: The Office of the Secretary announces that all sugar entering the United States under the FY 2022 World Trade Organization raw sugar TRQ will be permitted to enter U.S. Customs territory through December 31, 2022, two months later than the previously announced entry date. Additional U.S. Note 5(a)(iv) of chapter 17 of the U.S. Harmonized Tariff Schedule provides: “Sugar entering the United States during a quota period established under this note may be charged to the previous or subsequent quota period with the written approval of the Secretary.” The Secretary's authority under Additional U.S. Note 5 has been delegated to the Under Secretary for Trade and Foreign Agricultural Affairs (7 CFR 2.15). That authority, in turn, has been delegated to the Deputy Under Secretary for TFAA under certain circumstances (7 CFR 2.600). This action is being taken after a determination that additional supplies of raw cane sugar are required in the U.S. market. USDA will closely monitor stocks, consumption, imports and all sugar market and program variables on an ongoing basis.

Jason Hafemeister,
Acting Deputy Under Secretary, Trade and Foreign Agricultural Affairs.

[FR Doc. 2022-19499 Filed 9-8-22; 8:45 am]

BILLING CODE 3410-10-P